DEPARTMENT OF AGRICULTURE

Tribal Advisory Committee

AGENCY: Office of Tribal Relations, USDA.

ACTION: Notice of public, virtual meeting.

SUMMARY: Notice is hereby given, pursuant to the provisions of the rules and regulations of the Department of Agriculture and the Federal Advisory Committee Act (FACA), the Office of Tribal Relations is announcing a meeting of the Tribal Advisory Committee. The committee is authorized under the Agriculture Improvement Act of 2018 (the 2018 Farm Bill) and operates in compliance with the FACA. The purpose of the committee is to provide advice and guidance to USDA on matters related to Tribal and Indian affairs.

DATES: A virtual webinar with a call-in option will be held on Thursday, September 5, 2024, from 12:00 p.m. to approximately 7:00 p.m. Eastern Time (ET).

Webinar Participation Information: Registration to attend this meeting, including to provide oral public comments, is available at https://www.zoomgov.com/webinar/register/WN_nKWFY0ssSdCSlJzKaOG-ig.

Public Comments: The public may file written comments to the Tribal Advisory Committee by August 29, 2024, via email at Tribal.Relations@usda.gov. While other comments will be included in the public record for this meeting, the Committee may not have time to deliberate on comments received at this date during this meeting.

Register for the Meeting: The public is asked to pre-register for the meeting at least 5 business days prior to the meeting. Your pre-registration must state: the names of each person in your group; organization or interest represented; the number of people planning to give oral comments, if any; and whether anyone in your group requires special accommodations. Submit registrations to https://www.zoomgov.com/webinar/register/WN_nKWFY0ssSdCSlJzKaOG-ig by August 29, 2024.

FOR FURTHER INFORMATION CONTACT: General information about the committee can also be found at https://www.usda.gov/tribalrelations/advisory-committee. Josiah Griffin, Designated Federal Officer, by phone at 202-205-2249 or via email at Josiah.Griffin@usda.gov.

Individuals who use telecommunication devices for the deaf (TDD) may call the Federal Information Relay Service (FIRS) at 1-800-877-8339 between 8:00 a.m. and 8:00 p.m., Eastern Standard Time, Monday through Friday.

SUPPLEMENTARY INFORMATION: This meeting will be the third convening of the Tribal Advisory Committee. An agenda and more information for this meeting will be available at https://www.usda.gov/tribalrelations/advisory-committee.

The Secretary establishes the Committee pursuant to section 12303 of the Agriculture Improvement Act of 2018 (7 U.S.C. 6921(b)) and will be managed in accordance with the provisions of the Federal Advisory Committee Act (FACA), as amended, 5 U.S.C. 10. Under the law, the Secretary of Agriculture appointed three members, and the Chair and Ranking Members of the House Committee on Agriculture and the Senate Committees on Indian Affairs and Agriculture, Nutrition, and Forestry appointed the remaining eight members. In addition to providing recommendations to the Secretary, the Tribal Advisory Committee is required to provide a report to the three Congressional Committees listed above.

Register for the Meeting: The public is asked to pre-register for the meeting at least 5 business days prior to the meeting. Your pre-registration must state: the names of each person in your group; organization or interest represented; the number of people planning to give oral comments, if any; and whether anyone in your group requires special accommodations. Submit registrations to https://www.zoomgov.com/webinar/register/WN_nKWFY0ssSdCSlJzKaOG-ig by August 29, 2024.

Public Comment: Members of the public are invited to join the Tribal Advisory Committee meeting from 12:00 p.m. to 5:00 p.m. and 6:00 p.m. to 7:00 p.m. Eastern Time in listen only mode. Members of the public who request to give oral comments to the Committee, must arrive by 5:00 p.m. Eastern Time (ET) on September 5, 2024, and will be expected to limit their comments to no more than five (5) minutes per person.

Availability of Materials for the Meeting: All written public comments will be compiled into a binder and available for review at the meeting. Duplicate comments from multiple individuals will appear as one comment, with a notation that multiple copies of the comment were received. Please visit https://www.usda.gov/tribalrelations/advisory-committee to learn more about the agenda for or reports resulting from this meeting.

Please be advised that anyone calling into the Zoom teleconference system interested to provide public comment will be asked to provide their names, their title, and their tribal or organizational affiliations. Callers can expect to incur charges for calls they initiate over wireless lines, and the USDA will not refund any incurred charges.

USDA programs are prohibited from discriminating based on race, color, national origin, religion, sex, gender identity (including gender expression), sexual orientation, disability, age, marital status, family/parental status, income derived from a public assistance program, political beliefs, or reprisal or retaliation for prior civil rights activity, in any program or activity conducted or funded by USDA (not all bases apply to all programs). Remedies and complaint filing deadlines vary by program or incident.

Persons with disabilities who require alternative means of communication for program information (e.g., Braille, large print, audiotape, American Sign Language, etc.) should contact the responsible Agency or USDA's TARGET Center at (202) 720-2600 (voice and TTY) or contact USDA through the Federal Relay Service at (800) 877-8339. Additionally, program information may be made available in languages other than English.

Equal opportunity practices in accordance with USDA's policies will be followed in all appointments to the Committee. To ensure that the recommendations of the Committee have taken into account the needs of the diverse groups served by the Department, membership shall include, to the extent practicable, individuals with demonstrated ability to represent the many communities, identities, races, ethnicities, backgrounds, abilities, cultures, and beliefs of the American people, including underserved communities.

Dated: August 14, 2024.
Cikena Reid,
USDA Committee Management Officer.

[FR Doc. 2024-18610 Filed 8-19-24; 8:45 am]

BILLING CODE 3420-AG-P